DEPARTMENT OF ENERGY

Federal Energy Regulatory Commission

Combined Notice of Filings #1

Take notice that the Commission received the following exempt wholesale generator filings:

Docket Numbers: EG21-170-000.

Applicants: Lincoln Land Wind, LLC.

Description: Notice of Self-Certification of Exempt Wholesale Generator Status of Lincoln Land Wind, LLC.

Filed Date: 6/17/21.

Accession Number: 20210618-5032.

Comments Due: 5 p.m. ET 7/8/21.

Take notice that the Commission received the following electric rate filings:

Docket Numbers: ER11-4633-005.

Applicants: Madison Gas and Electric Company.

Description: Triennial Market Power Analysis for Central Region of Madison Gas and Electric Company.

Filed Date: 6/17/21.

Accession Number: 20210617-5135.

Comments Due: 5 p.m. ET 8/16/21.

Docket Numbers: ER19-381-002.

Applicants: Power Holding LLC.

Description: Amendment to the December 29, 2020 Triennial Market Power Analysis for Southeast Region of Power Holding LLC.

Filed Date: 6/17/21.

Accession Number: 20210617-5139.

Comments Due: 5 p.m. ET 7/8/21.

Docket Numbers: ER21-2157-000.

Applicants: Pacific Gas and Electric Company.

Description: Tariff Cancellation: Termination of AltaGas San Joaquin Hanford GSFA and GIA (TO SA 24) to be effective 8/17/2021.

Filed Date: 6/17/21.

Accession Number: 20210617-5110.

Comments Due: 5 p.m. ET 7/8/21.

Docket Numbers: ER21-2158-000.

Applicants: VETCO.

Description: Compliance filing: eTariff Filing to Comply with Order in Docket No. ER21-712-000 to be effective 1/1/2021.

Filed Date: 6/18/21.

Accession Number: 20210618-5008.

Comments Due: 5 p.m. ET 7/9/21.

Docket Numbers: ER21-2159-000.

Applicants: Solios Power Midwest Trading LLC.

Description: Tariff Cancellation: Cancellation of Market-Based Rate Tariff to be effective 6/23/2021.

Filed Date: 6/18/21.

Accession Number: 20210618-5010.

Comments Due: 5 p.m. ET 7/9/21.

Docket Numbers: ER21-2160-000.

Applicants: New England Hydro Transmission Electric Company.

Description: Compliance filing: 2021-06-18 Filing of Settlement Tariff Records to Comply With Order in ER21-712 to be effective 1/1/2021.

Filed Date: 6/18/21.

Accession Number: 20210618-5011.

Comments Due: 5 p.m. ET 7/9/21.

Docket Numbers: ER21-2161-000.

Applicants: New England Hydro Transmission Corporation.

Description: Compliance filing: 2021-06-18 Filing of Settlement Tariff Records to Comply With Order in ER21-712 to be effective 1/1/2021.

Filed Date: 6/18/21.

Accession Number: 20210618-5012.

Comments Due: 5 p.m. ET 7/9/21.

Docket Numbers: ER21-2162-000.

Applicants: New England Electric Transmission Corporation.

Description: Compliance filing: 2021-06-18 Filing of Settlement Tariff Records to Comply With Order in ER21-712 to be effective 1/1/2021.

Filed Date: 6/18/21.

Accession Number: 20210618-5013.

Comments Due: 5 p.m. ET 7/9/21.

Docket Numbers: ER21-2163-000.

Applicants: IRH Management Committee.

Description: Compliance filing: Use Agreement Baseline and Compliance Filing to be effective 6/21/2021.

Filed Date: 6/21/21.

Accession Number: 20210621-5000.

Comments Due: 5 p.m. ET 7/12/21.

Docket Numbers: ER21-2164-000.

Applicants: MATL LLP.

Description: § 205(d) Rate Filing: Tariff Waiver and Amendment—Order 676-H to be effective 5/15/2015.

Filed Date: 6/21/21.

Accession Number: 20210621-5009.

Comments Due: 5 p.m. ET 7/12/21.

Docket Numbers: ER21-2166-000.

Applicants: NorthWestern Corporation.

Description: § 205(d) Rate Filing: Revised RS 188—Colstrip 1&amp;2 Transmission Agreement with Puget Sound Energy to be effective 9/1/2021.

Filed Date: 6/21/21.

Accession Number: 20210621-5015.

Comments Due: 5 p.m. ET 7/12/21.

Docket Numbers: ER21-2167-000.

Applicants: Heartland Generation Ltd.

Description: Tariff Cancellation: Cancellation to be effective 6/22/2021.

Filed Date: 6/21/21.

Accession Number: 20210621-5053.

Comments Due: 5 p.m. ET 7/12/21.

Docket Numbers: ER21-2168-000.

Applicants: PacifiCorp.

Description: § 205(d) Rate Filing: OATT Revised Attachment U (revised effective date) to be effective 10/1/2021.

Filed Date: 6/21/21.

Accession Number: 20210621-5061.

Comments Due: 5 p.m. ET 7/12/21.

Take notice that the Commission received the following qualifying facility filings:

Docket Numbers: QF21-1007-000.

Applicants: Bloom Energy Corporation.

Description: Form 556 of Bloom Energy Corporation.

Filed Date: 6/21/21.

Accession Number: 20210618-5041.

Comments Due: None-Applicable.

Docket Numbers: QF21-1008-000.

Applicants: Bloom Energy Corporation.

Description: Form 556 of Bloom Energy Corporation [Hicksville].

Filed Date: 6/21/21.

Accession Number: 20210618-5043.

Comments Due: None-Applicable.

Docket Numbers: QF21-1009-000.

Applicants: Bloom Energy Corporation.

Description: Form 556 of Bloom Energy Corporation [Main Hospital].

Filed Date: 6/21/21.

Accession Number: 20210621-5063.

Comments Due: None-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2021.
Debbie-Anne A. Reese,
Deputy Secretary.

[FR Doc. 2021-13603 Filed 6-24-21; 8:45 am]

BILLING CODE 6717-01-P